DEPARTMENT OF TRANSPORTATION

Federal Aviation Administration

14 CFR Part 39

[Docket No. FAA-2006-25261; Directorate Identifier 2006-CE-38-AD; Amendment 39-14971; AD 2007-05-10]

RIN 2120-AA64

Airworthiness Directives; Cessna Aircraft Company Models 172R, 172S, 182S, 182T, T182T, 206H, and T206H Airplanes

AGENCY: Federal Aviation Administration (FAA), DOT.

ACTION: Final rule.

SUMMARY: The FAA adopts a new airworthiness directive (AD) for certain Cessna Aircraft Company (Cessna) Models 172R, 172S, 182S, 182T, T182T, 206H, and T206H airplanes. This AD requires you to install Modification Kit MK172-25-10C or a steel lock rod/bar on both crew seat back cylinder lock assemblies. If a steel lock rod/bar has already been installed on the crew seat back cylinder lock assembly, no further action is required. If you have already installed Modification Kit MK172-25-10A or MK172-25-10B, this AD requires you to do an installation inspection and correct any discrepancies found. This AD results from reports of the crew seat back cylinder lock assembly failing at the aft end and other cylinder lock assemblies found cracked. We are issuing this AD to prevent the crew seat back cylinder lock assembly from bending, cracking, or failing. This failure could cause uncontrolled movement of the seat back, resulting in possible backward collapse during flight. Backward collapse of either crew seat back could result in an abrupt pitch-up if the affected crew member continues to hold on to the control yoke during this failure and could cause difficulty in exiting the airplane from an aft passenger seat after landing.

DATES: This AD becomes effective on April 11, 2007.

As of April 11, 2007, the Director of the Federal Register approved the incorporation by reference of certain publications listed in the regulation.

ADDRESSES: To get the service information identified in this AD, contact Cessna Aircraft Company, Product Support, P.O. Box 7706, Wichita, KS 67277; telephone: (316) 517-5800; fax: (316) 942-9006.

To view the AD docket, go to the Docket Management Facility, U.S. Department of Transportation, 400 Seventh Street, SW., Nassif Building, Room PL-401, Washington, DC 20590-001 or on the Internet at http://dms.dot.gov. The docket number is FAA-2006-25261; Directorate Identifier 2006-CE-38-AD.

FOR FURTHER INFORMATION CONTACT: Gary Park, Aerospace Engineer, FAA, Wichita Aircraft Certification Office, 1801 Airport Road, Mid-Continent Airport, Wichita, Kansas 67209; telephone: (316) 946-4123; facsimile: (316) 946-4107.

SUPPLEMENTARY INFORMATION:

Discussion

On August 3, 2006, we issued a proposal to amend part 39 of the Federal Aviation Regulations (14 CFR part 39) to include an AD that would apply to certain Cessna Models 172R, 172S, 182S, 182T, T182T, 206H, and T206H airplanes. This proposal was published in the Federal Register as a notice of proposed rulemaking (NPRM) on August 9, 2006 (71 FR 45454). The NPRM proposed to require you to install a modification kit on both crew seat back cylinder lock assemblies, which replaces the cylinder lock with a new model cylinder lock, or install a steel lock rod/bar on both crew seat back cylinder lock assemblies. The NPRM also proposed to require you to do an installation inspection on previously installed modification kits and correct any discrepancies found.

Comments

We provided the public the opportunity to participate in developing this AD. The following presents the comments received on the proposal and FAA's response to each comment:

Comment Issue No. 1: Need AD To Resolve Crew Seat Problem

Michael A. Zaite states that having flown a number of Cessna airplanes, he has experienced this problem first hand and supports the AD.

The Cessna Pilots Association (CPA) also supports the AD. The CPA states one of two methods can permanently resolve the issue. Installing a solid bar thereby preventing any further aft movement of the seat back or installing Modification Kit MK172-25-10C are both acceptable solutions for the collapsing seat back issue.

We agree with Mr. Zaite and the CPA. Both of these methods are allowable in the AD. We are not changing the final rule AD action.

Comment Issue No. 2: Publish the Manufacturer Service Information

Jack Buster with the Modification and Replacement Parts Association (MARPA) provides comments on the AD process pertaining to how the FAA addresses publishing manufacturer service information as part of a proposed AD action. The commenter states that the proposed rule attempts to require compliance with a public law by reference to a private writing (as referenced in paragraph (e) of the proposed AD). The commenter would like the FAA to incorporate by reference (IBR) the Cessna service bulletins.

We agree with Mr. Buster. However, we do not IBR any document in a proposed AD action, instead we IBR the document in the final rule. Since we are issuing the proposal as a final rule AD action, Cessna Single Engine Service Bulletin SB04-25-01, Revision 4, dated December 26, 2006, Cessna Single Engine Service Bulletin SB04-25-02, Revision 1, dated October 17, 2005, and Cessna Single Engine Service Bulletin SB04-25-02, Revision 2, dated June 5, 2006, are incorporated by reference.

Comment Issue No. 3: Availability of IBR Documents in the Docket Management System (DMS)

Mr. Buster requests IBR documents be made available to the public by publication in the Federal Register or in the DMS.

We are currently reviewing issues surrounding the posting of service bulletins in the Department of Transportation's DMS as part of the AD docket. Once we have thoroughly examined all aspects of this issue and have made a final determination, we will consider whether our current practice needs to be revised.

Comment Issue No. 4: Could the Seats Be Installed on Other Cessna Model Airplanes

The International Cessna 170 Association states a concern that the affected seats may be installed on other airplanes. Many operators of Cessna airplanes find seats of later models desirable due to features subsequently added by manufacturers, i.e., recline/height-adjustment/mechanisms. The commenter also states that these seats usually have similar, if not identical, attachment to floor tracks and airframes; therefore, the possibility exists for installing the seats from the same manufacturer on other models of airplanes. These models may include Cessna 170, 170A, and 170B airplanes.

The commenter requests the applicability of the AD be specific to the crew seat model/part-number and not the airplane models.

Although it may be possible to install these seats on other Cessna airplane models, we are not aware of any such installations. In addition, the modification to the seat rails and other airplane configuration changes that would be required to install these seats would make any installation unlikely. We will continue to monitor this situation and, if we receive information from owner/operators indicating these seats are being installed on other airplanes, we will consider additional rulemaking on this subject.

We are not changing the final rule AD action based on this comment.

Comment Issue No. 5: Incorporate Revised Service Information

Cessna Aircraft Company states that reports of five additional seat back failures have been received since issuing Service Bulletin SB04-25-01, Revision 3, dated July 24, 2006.

It was also determined that incorporating Modification Kit MK172-25-10B on Models 206H and T206H airplanes equipped with an optional Keith Products, L.P. air conditioner system (installed in accordance with Supplemental Type Certificate SA10144SC) was impossible.

Cessna has issued Revision 4 to Service Bulletin SB04-25-01, dated December 26, 2006, which incorporates Modification Kit MK172-25-10C to address this issue.

We are changing the final rule AD action to incorporate Cessna Single Engine Service Bulletin SB04-25-01, Revision 4, dated December 26, 2006, which references Modification Kit MK172-25-10C.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD will affect 4,039 airplanes in the U.S. registry. We provide below total fleet costs for both the modification and the steel lock rod/bar installation; however, only one of these actions will be required.

We estimate the following costs to do the installation of the modification kit:

Labor cost | Parts cost for both seats | Total cost per airplane for both seats | Total cost on U.S. operators
3.5 work-hours × $80 per hour = $280 for each modification kit | $590 for each modification kit. One modification kit required for each airplane. Total parts cost for both seats is $590 | $870 | $3,513,930

We estimate the following costs to do the fabrication and installation of a steel lock rod/bar:

Labor cost | Parts cost for both seats | Total cost per airplane for both seats | Total cost on U.S. operators
1.5 work-hours × $80 per hour = $120 for each crew seat. Total labor cost for both seats is $240 | Not applicable | $240 | $969,360

We estimate the following costs to do the installation inspection on airplanes that have Modification Kit MK172-25-10A or MK172-25-10B installed:

Labor cost | Parts cost for both seats | Total cost per airplane for both seats
1 work-hour × $80 per hour = $80 for both crew seats | Not applicable | $80

We have no method of determining the number of airplanes that may have Modification Kit MK172-25-10A or MK172-25-10B previously installed.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-25261; Directorate Identifier 2006-CE-38-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2007-05-10 Cessna Aircraft Company: Amendment 39-14971; Docket No. FAA-2006-25261; Directorate Identifier 2006-CE-38-AD.

Effective Date

(a) This AD becomes effective on April 11, 2007.

Affected ADs

(b) None.

Applicability

(c) This AD affects the following airplane models and serial numbers that are certificated in any category:

Model | Serial Nos.
172R | 17280001 through 17281262.
172S | 172S8001 through 172S9994.
182S | 18280001 through 18280944.
182T | 18280945 through 18281701.
T182T | T18208001 through T18208453.
206H | 20608001 through 20608250.
T206H | T20608001 through T20608570.

Unsafe Condition

(d) This AD results from reports of the crew seat back cylinder lock assembly failing at the aft end area and other cylinder lock assemblies found cracked. The actions specified in this AD are intended to prevent the crew seat cylinder lock assembly from bending, cracking, or failing. This failure could cause uncontrolled movement of the seat back, resulting in possible backward collapse during flight. Backward collapse of either crew seat back could result in an abrupt pitch-up if the affected crew member continues to hold on to the control yoke during this failure and could cause difficulty in exiting the airplane from an aft passenger seat after landing.

Compliance

(e) To address this problem, you must do the following, unless already done:

(1) Airplanes that do not have Modification Kit MK172-25-10A or Modification Kit MK172-25-10B installed:

Actions | Compliance | Procedures
For each crew seat (pilot and copilot), install Modification Kit MK172-25-10C or fabricate and install a steel lock rod/bar | For airplanes that have over 1,000 hours time-in-service (TIS) on the effective date of this AD: do the action within the next 4 months after April 11, 2007 (the effective date of this AD) For airplanes that have from 501 to 1,000 hours TIS on the effective date of this AD: do the action within the next 8 months after April 11, 2007 (the effective date of this AD) For airplanes that have from 0 to 500 hours TIS on the effective date of this AD: do the action within the next 12 months after April 11, 2007 (the effective date of this AD) | Follow Cessna Single Engine Service Bulletin SB04-25-01, Revision 4, dated December 26, 2006, for installing Modification Kit MK172-25-10C. Follow Cessna Single Engine Service Bulletin SB04-25-02, Revision 1, dated October 17, 2005, or Revision 2, dated June 5, 2006, for fabricating and installing a steel lock rod/bar.

(2) Airplanes that have Modification Kit MK172-25-10A or Modification Kit MK172-25-10B installed:

Action | Compliance | Procedures
(i) For each crew seat (pilot and copilot), do an installation inspection | Within the next 30 days after April 11, 2007 (the effective date of this AD) | Follow Cessna Single Engine Service Bulletin SB04-25-01, Revision 4, dated December 26, 2006.
(ii) If you do not find any discrepancies during the inspection required in paragraph (e)(2)(i) of this AD, make a log book entry showing compliance with this AD and no further action is required | Before further flight after the inspection required in paragraph (e)(2)(i) of this AD | Follow Cessna Single Engine Service Bulletin SB04-25-01, Revision 4, dated December 26, 2006.
(iii) If you find discrepancies during the inspection required in paragraph (e)(2)(i) of this AD, make all necessary corrective actions | Before further flight after the inspection required in paragraph (e)(2)(i) of this AD | Follow Cessna Single Engine Service Bulletin SB04-25-01, Revision 4, dated December 26, 2006.

Note: Although not required for the airplanes affected by this AD, you may replace the steel lock rod/bar with Modification Kit MK172-25-10C.

Alternative Methods of Compliance (AMOCs)

(f) The Manager, Wichita Aircraft Certification Office, FAA, ATTN: Gary Park, Aerospace Engineer, 1801 Airport Road, Mid-Continent Airport, Wichita, Kansas 67209; telephone: (316) 946-4123; facsimile: (316) 946-4107, has the authority to approve AMOCs for this AD, if requested using the procedures found in 14 CFR 39.19.

Material Incorporated by Reference

(g) You must use Cessna Single Engine Service Bulletin SB04-25-01, Revision 4, dated December 26, 2006; and Cessna Single Engine Service Bulletin SB04-25-02, Revision 1, dated October 17, 2005, or Revision 2, dated June 5, 2006, to do the actions required by this AD, unless the AD specifies otherwise.

(1) The Director of the Federal Register approved the incorporation by reference of this service information under 5 U.S.C. 552(a) and 1 CFR part 51.

(2) For service information identified in this AD, contact Cessna Aircraft Company, Product Support, P.O. Box 7706, Wichita, KS 67277; telephone: (316) 517-5800; fax: (316) 942-9006.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on February 26, 2007.
Kim Smith,
Manager, Small Airplane Directorate, Aircraft Certification Service.

[FR Doc. E7-3834 Filed 3-6-07; 8:45 am]

BILLING CODE 4910-13-P